DEPARTMENT OF TRANSPORTATION

Pipeline and Hazardous Materials Safety Administration

[Docket No. PHMSA-2013-0017; Notice No. 13-02]

Hazardous Materials Packaging—Composite Cylinder Standards; Public Meeting

AGENCY: Pipeline and Hazardous Materials Safety Administration (PHMSA), Department of Transportation.

ACTION: Notice of public meeting.

SUMMARY: This notice is to advise interested persons that PHMSA will conduct a public meeting to provide further clarification regarding PHMSA's intent to modify certain special permits in accordance with 49 CFR 107.121. These special permits authorize the manufacture, marking, sale and use of non-DOT specification composite cylinders. The non-DOT specification cylinders authorized by PHMSA's special permits conform to the basic requirements for fiber reinforced plastic (DOT-FRP) or fully wrapped carbon-fiber reinforced aluminum lined cylinders (DOT-CFFC) standards. PHMSA believes that these special permits should be modified to reflect the appropriate International Standards Organization (ISO) standards for composite cylinders ISO 11119 Parts -1, -2, -3 incorporated by reference into the Hazardous Materials Regulations (HMR).

DATES: The meeting will be held on Thursday, April 18, 2013, from 9 a.m. to 3 p.m. Questions, comments, or recommendations must be submitted by April 4, 2013 to be considered at the public meeting.

ADDRESSES: The meeting will be held at the DOT Headquarters, West Building, Oklahoma City Conference Room, 1200 New Jersey Avenue SE., Washington, DC 20590. The main visitor's entrance is located in the West Building, on New Jersey Avenue and M Street. Upon entering the lobby, visitors must report to the security desk. Visitors should indicate that they will be attending the Composite Cylinder Standards Public Meeting and wait to be escorted to the Conference Center.

Written Comments: PHMSA invites interested parties, whether or not they attend the public meeting to submit any relevant data or information to the docket of this proceeding (PHMSA-2013-0017) by any of the following methods:

• Federal eRulemaking Portal: http://www.regulations.gov. Follow the instructions for submitting comments.

• Fax: 1-202-493-2251.

• Mail: Docket Management System; US Department of Transportation, West Building, Ground Floor, Room W12-140, Routing Symbol M-30, 1200 New Jersey Avenue SE., Washington, DC 20590.

• Hand Delivery: To the Docket Management System; Room W12-140 on the ground floor of the West Building, 1200 New Jersey Avenue SE., Washington, DC 20590, between 9 a.m. and 5 p.m., Monday through Friday, except Federal holidays.

Instructions: All submissions must include the agency name and docket number for this notice at the beginning of the comment. To avoid duplication, please use only one of these four methods. All comments received will be posted without change to the Federal Docket Management System (FDMS), including any personal information.

Docket: For access to the dockets to read background documents or comments received, go to http://www.regulations.gov or DOT's Docket Operations Office (see ADDRESSES).

Privacy Act: Anyone is able to search the electronic form of any written communications and comments received into any of our dockets by the name of the individual submitting the document (or signing the document, if submitted on behalf of an association, business, labor union, etc.). You may review DOT's complete Privacy Act Statement in the Federal Register published on April 11, 2000 (65 FR 19477) which may be viewed at http://www.gpo.gov/fdsys/pkg/FR-2000-04-11/pdf/00-8505.pdf.

Registration: Any person wishing to participate in the public meeting should send an email to specialpermits@dot.gov and include their name and contact information (Organization/Address/Telephone Number) no later than the close of business on April 9, 2013. Please indicate whether you plan to attend on-site or by conference call. To expedite processing please include “Composite Cylinder Standards; Public Meeting” as the email subject. Failure to preregister may delay access to the building and call in information. Attendees are encouraged to arrive early to allow time for security checks necessary to obtain access to the building.

Conference Call Capability/Live Meeting Information: Remote access/call-in information will be located at http://phmsa.dot.gov/hazmat/permits-approvals/special-permits.

FOR FURTHER INFORMATION CONTACT: Mark Toughiry, Engineering and Research Division, Office of Hazardous Materials Safety, Pipeline and Hazardous Materials Safety Administration, Department of Transportation, Washington, DC 20590; (202) 366-4545.

SUPPLEMENTARY INFORMATION:

I. Background

On June 4, 2012, PHMSA sent a letter proposing to modify all special permits that authorize the manufacture, marking, sale and use of DOT-FRP and DOT-CFFC cylinders to reflect the standards outlined in the appropriate ISO 11119 standards. PHMSA proposed to modify these special permits to reflect the ISO 11119 standards, which has been incorporated in to the HMR, rather than DOT-FRP and DOT-CFFC standards that are not referenced in the HMR. If a grantee cannot manufacture, mark, sale and use a cylinder identical to that authorized in the current special permit, relief would be provided based upon deviations of the ISO-11119 standards. The goal of this proposal is to update the special permits to reflect current regulations. PHMSA intends to allow continued manufacturing of DOT-FRP or DOT-CFFC cylinders under existing special permits, without affecting the service life of cylinders already manufactured or adding any additional testing requirements. However, in the future, any relief provided by a special permit will be an exemption from the ISO 11119 standards. A transitional provision will be provided for adequate adjustment to the proposed modification. Currently, an application submitted in accordance with § 107.105 requesting the manufacture, marking, sale and use of DOT-FRP and DOT-CFFC cylinders would be denied in accordance with § 107.113, and the applicant would be required to submit a new application for a special permit seeking relief from the ISO 11119 standard.

A copy of the June 4, 2012 letter can be found in the docket. PHMSA proposed to modify the following special permits: 7218 7235 7277 8023 8059 8162 8391 8718 8725 8814 8965 9634 9716 9894 10019 10147 10664 10905 10915 10945 10970 11005 11194 11382 12706 13105 13173 13381 13583 14003 14154 14266 14339 14387 14509 14562 14576 14621 14787 14932 15260.

The composite cylinder standards referenced in § 178.71 of the HMR, ISO 11119 Parts-1, -2 and -3, contain design, construction and testing requirements that are similar to the DOT-FRP, and DOT-CFFC standards. For more information, and a comparison between ISO 11119 standards and DOT-FRP and DOT-CFFC standards, please go to http://phmsa.dot.gov/hazmat/permits-approvals/special-permits.

II. Public Meeting Topics

During this public meeting, PHMSA will discuss the following topics; (i) design and testing differences between DOT-FRP, DOT-CFFC and ISO 11119 standards, (ii) when cylinders authorized under the current special permits should be manufactured in accordance with or based upon ISO 11119 standards; (iii) a proposal in which these special permits are modified to provide relief from applicable provisions of ISO 11119.

Prior to this public meeting, PHMSA would like the stakeholders to define and submit to the docket the design testing and manufacturing differences between ISO 11119 standards and relevant DOT-FRP and DOT-CFFC standards and what would be affected if we modified the special permit as proposed. PHMSA will not take action on our proposed modification until the merit of the comments received through this notice and public meeting has been reviewed.

Issued in Washington, DC, on March 7, 2013.
R. Ryan Posten,
Deputy Associate Administrator for Hazardous Materials Safety.

[FR Doc. 2013-05677 Filed 3-12-13; 8:45 am]

BILLING CODE 4910-60-P